DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been removed from the Specially Designated Nationals and Blocked Persons List (SDN List). Their property and interests in property are no longer blocked, and U.S. persons are no longer generally prohibited from engaging in transactions with them.

DATES: See SUPPLEMENTARY INFORMATION section for effective date.

FOR FURTHER INFORMATION CONTACT: OFAC: Andrea Gacki, Director, tel.: 202-622-2490; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On December 30, 2021, OFAC determined that the property and interests in property subject to U.S. jurisdiction of the following persons are unblocked and they have been removed from the SDN List under the relevant sanctions authorities listed below.

Individuals

1. GUTIERREZ RESTREPO, Luis Fernando (a.k.a. “LUIFER”); DOB 13 Aug 1958; POB Belmira, Antioquia, Colombia; citizen Colombia; Cedula No. 70550107 (Colombia) (individual) [SDNTK] (Linked To: ROBIREPUESTOS; Linked To: IMPORTADORA MARENOL LIMITADA).

2. ABRIL CORTEZ, Oliverio (a.k.a. ABRIL CORTES, Oliverio; f.k.a. CORTEZ, Oliverio Abril), c/o INVERSIONES EL PENON S.A., Cali, Colombia; c/o CONSTRUCTORA DIMISA LTDA., Cali, Colombia; c/o AGROPECUARIA BETANIA LTDA., Cali, Colombia; c/o VALLADARES LTDA., Cali, Colombia; c/o INVERSIONES GEMINIS S.A., Cali, Colombia; c/o W. HERRERA Y CIA. S. EN C., Cali, Colombia; Calle 18A No. 8A-20, Jamundi, Colombia; c/o INVERSIONES EL GRAN CRISOL LTDA., Cali, Colombia; DOB 20 Aug 1956; Cedula No. 3002003 (Colombia); Passport AF368431 (Colombia) (individual) [SDNT].

3. ACERO PIEDRAHITA, Cesar Augusto, Avenida 7N No. 17A-48, Cali, Colombia; c/o AGROPECUARIA LA ROBLEDA S.A., Cali, Colombia; DOB 20 May 1965; Cedula No. 70564947 (Colombia) (individual) [SDNT].

4. AMEZQUITA MENESES, Salustio, c/o INMOBILIARIA U.M.V. S.A., Cali, Colombia; c/o INVERSIONES GEMINIS S.A., Cali, Colombia; DOB 01 Jul 1946; Cedula No. 14943885 (Colombia) (individual) [SDNT].

5. ANGULO OROBIO (SEGUNDO), Jose Francisco, Avenida 4N No. 17-43 apt. 801, Cali, Colombia; c/o INVERSIONES Y CONSTRUCCIONES VALLE S.A., Cali, Colombia; DOB 08 Sep 1964; Cedula No. 16706561 (Colombia) (individual) [SDNT].

6. ARBOLEDA ROMERO, Julio Cesar, c/o INVERSIONES BETANIA LTDA., Cali, Colombia; c/o INVERSIONES EL PENON S.A., Cali, Colombia; DOB 01 Dec 1953; Cedula No. 16205508 (Colombia) (individual) [SDNT].

7. ARIZABALETA ARZAYUS, Phanor (a.k.a. ARIZABALETA ARZAYUS, Fanor), Avenida 39 No. 15-22, Bogota, Colombia; c/o CONSTRUCTORA ALTOS DEL RETIRO LTDA., Bogota, Colombia; c/o INVERSIONES ARIO LTDA., Cali, Colombia; Carrera 9 No. 9S-35, Buga, Colombia; Carrera 4 No. 12-41 of. 710, Cali, Colombia; Calle 110 No. 30-45, Bogota, Colombia; DOB 12 May 1938; Cedula No. 2879530 (Colombia) (individual) [SDNT].

8. BANDERAS, Aracelly, c/o AGROPECUARIA LA ROBLEDA S.A., Cali, Colombia; DOB 30 Nov 1955 (individual) [SDNT].

9. BECERRA BECERRA, Alvaro, c/o AGROPECUARIA LA ROBLEDA S.A., Cali, Colombia; Cedula No. 2730788 (Colombia) (individual) [SDNT].

10. BUITRAGO DE HERRERA, Luz Mery, c/o AGROPECUARIA BETANIA LTDA., Cali, Colombia; c/o AGROPECUARIA Y REFORESTADORA HERREBE LTDA., Cali, Colombia; c/o CONSTRUEXITO S.A., Cali, Colombia; c/o INVERSIONES BETANIA LTDA., Cali, Colombia; c/o INVERSIONES INVERVALLE S.A., Cali, Colombia; c/o VALLADARES LTDA., Cali, Colombia; c/o SOCOVALLE, Cali, Colombia; c/o W. HERRERA Y CIA., Cali, Colombia; c/o INVERSIONES GEMINIS S.A., Cali, Colombia; c/o INVERSIONES HERREBE LTDA., Cali, Colombia; c/o INVERSIONES EL GRAN CRISOL LTDA., Cali, Colombia; DOB 24 Aug 1924; Cedula No. 29641219 (Colombia) (individual) [SDNT].

11. BUITRAGO MARIN, Adiela, c/o CONSTRUEXITO S.A., Cali, Colombia; c/o INDUSTRIA AVICOLA PALMASECA S.A., Cali, Colombia; DOB 28 Feb 1951; Cedula No. 31137617 (Colombia) (individual) [SDNT].

12. BUITRAGO MARIN, Nubia, c/o INMOBILIARIA U.M.V. S.A., Cali, Colombia; DOB 05 Apr 1948; Cedula No. 31132922 (Colombia) (individual) [SDNT].

13. CASTRILLON CRUZ, Maria Leonor, c/o AGROPECUARIA LA ROBLEDA S.A., Cali, Colombia; DOB 25 Oct 1922; Cedula No. 31138584 (Colombia) (individual) [SDNT].

14. CHAVARRO, Hector Fabio, c/o VALLADARES LTDA., Cali, Colombia; c/o AGROPECUARIA BETANIA LTDA., Cali, Colombia; c/o INVERSIONES VILLA PAZ S.A., Cali, Colombia; DOB 28 Sep 1959; Cedula No. 16263212 (Colombia) (individual) [SDNT].

15. CORREA PULGARIN, Ernesto, c/o AGROPECUARIA LA ROBLEDA S.A., Cali, Colombia; Cedula No. 2510585 (Colombia) (individual) [SDNT].

16. CUARTES MORALES, Juan Carlos, c/o INVERSIONES Y CONSTRUCCIONES VALLE S.A., Cali, Colombia; DOB 09 Nov 1968; Cedula No. 16757375 (Colombia) (individual) [SDNT].

17. CUERO MARTINEZ, Otalvaro, c/o INVHERESA S.A., Cali, Colombia; c/o ALKALA ASOCIADOS S.A., Cali, Colombia; DOB 17 Aug 1955; Cedula No. 16599979 (Colombia) (individual) [SDNT].

18. CULZAT LUGSIR, Rafael Alberto, c/o CONSTRUCTORA ALTOS DEL RETIRO LTDA., Bogota, Colombia; Calle 7 Oeste No. 2-228, Cali, Colombia; Transversal 3 No. 86-73, Bogota, Colombia; c/o INVERSIONES CULZAT GUEVARA Y CIA. S.C.S., Cali, Colombia; DOB 23 Oct 1940; Cedula No. 14962523 (Colombia); Passport P551220 (Colombia) (individual) [SDNT].

19. DIAZ, Manuel, c/o INMOBILIARIA GALES LTDA, Bogota, Colombia; c/o COMERCIAL DE NEGOCIOS CLARIDAD Y CIA., Bogota, Colombia; c/o COMERCIALIZADORA EXPERTA Y CIA. S. EN C., Bogota, Colombia; DOB 10 Feb 1954; Cedula No. 396358 (Colombia) (individual) [SDNT].

20. DIAZ, Rosa Isabel, c/o INVHERESA S.A., Cali, Colombia (individual) [SDNT].

21. ESCOBAR BUITRAGO, Walter, c/o INMOBILIARIA BOLIVAR LTDA., Cali, Colombia; c/o SERVIAUTOS UNO A 1A LIMITADA, Cali, Colombia; DOB 08 Feb 1971; Cedula No. 16785833 (Colombia); Passport AD254557 (Colombia) (individual) [SDNT].

22. FIGUEROA DE BRUSATIN, Dacier, c/o W. HERRERA Y CIA. S. EN C., Cali, Colombia; c/o INVERSIONES EL GRAN CRISOL LTDA., Cali, Colombia; DOB 07 Nov 1930; Cedula No. 29076093 (Colombia) (individual) [SDNT].

23. GALINDO, Gilmer Antonio (a.k.a. GUZMAN TRUJILLO, Carlos Arturo), c/o CONSTRUEXITO S.A., Cali, Colombia; c/o INDUSTRIA AVICOLA PALMASECA S.A., Cali, Colombia; Carrera 4C No. 53-40 apt. 307, Cali, Colombia; c/o COMERCIAL DE NEGOCIOS CLARIDAD Y CIA., Bogota, Colombia; c/o INMOBILIARIA GALES LTDA., Bogota, Colombia; c/o COMERCIALIZADORA EXPERTA Y CIA. S. EN C., Bogota, Colombia; DOB 28 Dec 1948; Cedula No. 16245188 (Colombia); Passport AC824879 (Colombia) (individual) [SDNT].

24. GALINDO HERRERA, Diana Paola, c/o INMOBILIARIA GALES LTDA., Bogota, Colombia; c/o INDUSTRIA AVICOLA PALMASECA S.A., Cali, Colombia; c/o COMERCIAL DE NEGOCIOS CLARIDAD Y CIA., Bogota, Colombia; c/o COMERCIALIZADORA EXPERTA Y CIA. S. EN C., Bogota, Colombia; c/o AGROPECUARIA Y REFORESTADORA HERREBE LTDA., Cali, Colombia; c/o INVERSIONES HERREBE LTDA., Cali, Colombia; c/o CONSTRUEXITO S.A., Cali, Colombia; DOB 08 Jul 1978; Cedula No. 31538790 (Colombia); Passport AF127300 (Colombia) (individual) [SDNT].

25. GALINDO HERRERA, Diego Alexander, c/o CONSTRUEXITO S.A., Cali, Colombia; c/o INVERSIONES HERREBE LTDA., Cali, Colombia; c/o AGROPECUARIA Y REFORESTADORA HERREBE LTDA., Cali, Colombia; c/o COMERCIALIZADORA EXPERTA Y CIA. S. EN C., Bogota, Colombia; c/o COMERCIAL DE NEGOCIOS CLARIDAD Y CIA., Bogota, Colombia; c/o INMOBILIARIA GALES LTDA., Bogota, Colombia; c/o INDUSTRIA AVICOLA PALMASECA S.A., Cali, Colombia; DOB 09 Feb 1977; Cedula No. 16836449 (Colombia); Passport AF246678 (Colombia) (individual) [SDNT].

26. GARCIA, Freddy (a.k.a. GARCIA, Fredy), c/o COMERCIALIZADORA INTERNACIONAL VALLE DE ORO S.A., Cali, Colombia; Calle 11 No. 1-07 of. 405, Cali, Colombia; c/o PROCESADORA DE POLLOS SUPERIOR S.A., Cali, Colombia; Cedula No. 79376230 (Colombia) (individual) [SDNT].

27. GARCIA ROMERO, Audra Yamile, c/o INVHERESA S.A., Cali, Colombia; c/o ALKALA ASOCIADOS S.A., Cali, Colombia; DOB 23 Jul 1971; Cedula No. 66765096 (Colombia) (individual) [SDNT].

28. GIRALDO SARRIA, Octavio, c/o INMOBILIARIA U.M.V. S.A., Cali, Colombia; DOB 15 Nov 1967; Cedula No. 16281770 (Colombia) (individual) [SDNT].

29. GOMEZ BERRIO, Olmes de Jesus (a.k.a. GOMEZ BERRIO, Holmes de Jesus), Carrera 1 No. 18-52, Cali, Colombia; c/o INVERSIONES INVERVALLE S.A., Cali, Colombia; c/o INVERSIONES Y CONSTRUCCIONES VALLE S.A., Cali, Colombia; DOB 15 Dec 1961; Cedula No. 73105133 (Colombia) (individual) [SDNT].

30. HENAO HINESTROZA, Maria Nohelio, c/o INVHERESA S.A., Cali, Colombia; DOB 20 Mar 1954; Cedula No. 26271587 (Colombia) (individual) [SDNT].

31. HERNANDEZ CANOBAS, Hector Fabio, c/o INVERSIONES BETANIA LTDA., Cali, Colombia; c/o INVERSIONES EL PENON S.A., Cali, Colombia; DOB 21 Jun 1958; Cedula No. 16615804 (Colombia) (individual) [SDNT].

32. HERRERA BUITRAGO, Helmer (a.k.a. “H7”; a.k.a. “PACHO”), Cali, Colombia; DOB 24 Aug 1951; alt. DOB 05 Jul 1951; Cedula No. 16247821 (Colombia); Passport J287011 (Colombia) (individual) [SDNT].

33. HERRERA BUITRAGO, Alvaro, Avenida 6N No. 25-14, Cali, Colombia; c/o INDUSTRIA AVICOLA PALMASECA S.A., Cali, Colombia; DOB 10 Oct 1955; Cedula No. 16258303 (Colombia) (individual) [SDNT].

34. HERRERA BUITRAGO, Stella, c/o SOCOVALLE LTDA., Cali, Colombia; c/o INVERSIONES GEMINIS S.A., Cali, Colombia; c/o CONSTRUCTORA DIMISA LTDA., Cali, Colombia; c/o INVERSIONES HERREBE LTDA., Cali, Colombia; c/o AGROPECUARIA Y REFORESTADORA HERREBE LTDA., Cali, Colombia; c/o CONCRETOS CALI S.A., Cali, Colombia; c/o COMERCIALIZADORA EXPERTA Y CIA. S. EN C., Bogota, Colombia; c/o INMOBILIARIA GALES LTDA., Bogota, Colombia; c/o INDUSTRIA AVICOLA PALMASECA S.A., Cali, Colombia; c/o COMERCIAL DE NEGOCIOS CLARIDAD Y CIA., Bogota, Colombia; Avenida 1B Oeste No. 1-44 apt. 602, Medeira Building, Cali, Colombia; DOB 07 Oct 1953; Cedula No. 31143871 (Colombia); Passport AD031302 (Colombia) (individual) [SDNT].

35. HERRERA BUITRAGO, William, c/o W. HERRERA Y CIA. S. EN C., Cali, Colombia; DOB 29 Nov 1964; Cedula No. 16716887 (Colombia); Passport P046550 (Colombia) (individual) [SDNT].

36. IBANEZ LOPEZ, Raul Alberto; DOB 11 Apr 1960; Cedula No. 16640123 (Colombia) (individual) [SDNT] (Linked To: AGROPECUARIA LA ROBLEDA S.A.; Linked To: GANADERIAS DEL VALLE S.A.; Linked To: INMOBILIARIA U.M.V. S.A.; Linked To: DISTRIBUIDORA DE ELEMENTOS PARA LA CONSTRUCCION S.A.).

37. LARRANAGA CALVACHE, Juan Carlos, c/o INVERSIONES EL PENON S.A., Cali, Colombia; c/o COMERCIALIZADORA INTERNACIONAL VALLE DE ORO S.A., Cali, Colombia; c/o INMOBILIARIA BOLIVAR LTDA., Cali, Colombia; c/o ADMINISTRACION INMOBILIARIA BOLIVAR S.A., Cali, Colombia; DOB 18 Mar 1964; Cedula No. 12982064 (Colombia) (individual) [SDNT].

38. LIBREROS DIEZ, Orlando, c/o CONSTRUCTORA DIMISA LTDA., Cali, Colombia; c/o INDUSTRIA AVICOLA PALMASECA S.A., Cali, Colombia; c/o VALLE COMUNICACIONES LTDA., Cali, Colombia; c/o DISTRIBUIDORA DE ELEMENTOS PARA LA CONSTRUCCION S.A., Cali, Colombia; DOB 06 Dec 1960; Cedula No. 16651068 (Colombia) (individual) [SDNT].

39. LINARES REYES, Ricardo Jose (a.k.a. LLENARES REYES, Jose Ricardo), c/o INVERSIONES INVERVALLE S.A., Cali, Colombia; c/o CONCRETOS CALI S.A., Cali, Colombia; c/o W. HERRERA Y CIA. S. EN C., Cali, Colombia; c/o ADMINISTRACION INMOBILIARIA BOLIVAR S.A., Cali, Colombia; c/o INVHERESA S.A., Cali, Colombia; c/o INCOVALLE, Cali, Colombia; c/o CONSTRUEXITO S.A., Cali, Colombia; c/o INVERSIONES EL PENON S.A., Cali, Colombia; c/o INVERSIONES HERREBE LTDA., Cali, Colombia; c/o VIAJES MERCURIO LTDA, Cali, Colombia; c/o INVERSIONES BETANIA LTDA., Cali, Colombia; DOB 08 Mar 1955; alt. DOB 03 Mar 1955; Cedula No. 14440139 (Colombia); Passport PO466638 (Colombia) (individual) [SDNT].

40. LINDO HURTADO, Edgar, c/o INMOBILIARIA U.M.V. S.A., Cali, Colombia; DOB 23 Mar 1927; Cedula No. 6061717 (Colombia) (individual) [SDNT].

41. LONDONO DE UPEGUI, Maria del Carmen, c/o INVERSIONES VILLA PAZ S.A., Cali, Colombia; DOB 16 Oct 1927; Cedula No. 29652262 (Colombia) (individual) [SDNT].

42. LOPERA LONDONO, Vicente de Jesus, c/o INVERSIONES Y CONSTRUCCIONES VALLE S.A., Calle, Colombia; Cedula No. 1393107 (Colombia) (individual) [SDNT].

43. LOPEZ RODRIGUEZ, Cecilia, c/o COMERCIALIZADORA INTERNACIONAL VALLE DE ORO S.A., Cali, Colombia; DOB 04 Jul 1965; Cedula No. 31171066 (Colombia) (individual) [SDNT].

44. LOPEZ ZAPATA, Hernan de Jesus, c/o AGROPECUARIA LA ROBLEDA S.A., Cali, Colombia; c/o INDUSTRIA MADERERA ARCA LTDA., Cali, Colombia; Cedula No. 16344058 (Colombia) (individual) [SDNT].

45. MAFLA, Carlos Obeymar (a.k.a. MAFLA, Carlos Obeimar; f.k.a. OBEYMAR MAFLA, Carlos), c/o MERCAVICOLA LTDA., Cali, Colombia; Carrera 11 No. 9-11, Villagorgon, Candelaria, Colombia; DOB 05 Aug 1955; Cedula No. 6226643 (Colombia) (individual) [SDNT].

46. MONROY ARCILA, Francisco Jose, c/o INVERSIONES GEMINIS S.A., Cali, Colombia; c/o CONSTRUCTORA DIMISA LTDA., Cali, Colombia; c/o INVERSIONES EL PENON S.A., Cali, Colombia; c/o COMPANIA ADMINISTRADORA DE VIVIENDA S.A., Cali, Colombia; DOB 02 Aug 1942; Cedula No. 79153691 (Colombia) (individual) [SDNT].

47. MORENO, Carlos Arturo, c/o INVERSIONES EL PENON S.A., Cali, Colombia; Cedula No. 14264233 (Colombia) (individual) [SDNT].

48. MOSQUERA, Juan Carlos, c/o INMOBILIARIA U.M.V. S.A., Cali, Colombia; Calle 24N No. 6-17, Cali, Colombia; Avenida 2 Norte No. 7N-55 of. 601, Cali, Colombia; Cedula No. 16692007 (Colombia) (individual) [SDNT].

49. MUNOZ PAZ, Joaquin Emilio, c/o INMOBILIARIA U.M.V. S.A., Cali, Colombia; Avenida 4AN No. 47-89, Cali, Colombia; c/o CONSTRUCTORA DIMISA LTDA., Cali, Colombia; c/o INVERSIONES Y CONSTRUCCIONES VALLE S.A., Cali, Colombia; DOB 18 Jan 1971; Cedula No. 16789012 (Colombia) (individual) [SDNT].

50. MURILLO MURILLO, Jose Tolentino, c/o AGROPECUARIA LA ROBLEDA S.A., Cali, Colombia; Cedula No. 2240779 (Colombia) (individual) [SDNT].

51. PATINO RINCON, Octavio, c/o INVERSIONES VILLA PAZ S.A., Cali, Colombia; DOB 20 Sep 1916; Cedula No. 2438955 (Colombia) (individual) [SDNT].

52. PEREZ ORTEGA, Publio Eliecer, c/o INVERSIONES VILLA PAZ S.A., Cali, Colombia; DOB 23 Jul 1954; Cedula No. 16597479 (Colombia) (individual) [SDNT].

53. PEREZ SERNA, Wilmar Armando, c/o INVHERESA S.A., Cali, Colombia (individual) [SDNT].

54. PIEDRAHITA GIRALDO, Gustavo Adolfo, c/o AGROPECUARIA LA ROBLEDA S.A., Cali, Colombia; Calle 1A No. 62A-120, Cali, Colombia; Cedula No. 16764002 (Colombia) (individual) [SDNT].

55. POSSO DE LONDONO, Maria del Carmen, c/o INVERSIONES VILLA PAZ S.A., Cali, Colombia; Cedula No. 29664243 (Colombia) (individual) [SDNT].

56. QUINTERO SALAZAR, Lisimaco, c/o INMOBILIARIA U.M.V. S.A., Cali, Colombia (individual) [SDNT].

57. RAMIREZ BUITRAGO, Placido, c/o COMERCIALIZADORA INTERNACIONAL VALLE DE ORO S.A., Cali, Colombia; DOB 16 Nov 1950; Cedula No. 10219387 (Colombia) (individual) [SDNT].

58. RAMIREZ CORTES, Delia Nhora (a.k.a. RAMIREZ CORTES, Delia Nora), c/o INVERSIONES GEMINIS S.A., Cali, Colombia; c/o AGROPECUARIA Y REFORESTADORA HERREBE LTDA., Cali, Colombia; c/o INDUSTRIA AVICOLA PALMASECA S.A., Cali, Colombia; c/o VIAJES MERCURIO LTDA., Cali, Colombia; c/o ADMINISTRACION INMOBILIARIA BOLIVAR S.A., Cali, Colombia; c/o CONSTRUCTORA ALTOS DEL RETIRO LTDA., Bogota, Colombia; c/o INMOBILIARIA BOLIVAR LTDA., Cali, Colombia; c/o INVERSIONES INVERVALLE S.A., Cali, Colombia; c/o SOCOVALLE LTDA., Cali, Colombia; c/o INVERSIONES HERREBE LTDA., Cali, Colombia; c/o CONSTRUEXITO S.A., Cali, Colombia; c/o COMPANIA ADMINISTRADORA DE VIVIENDA S.A., Cali, Colombia; DOB 20 Jan 1959; Cedula No. 38943729 (Colombia) (individual) [SDNT].

59. RAMIREZ VALENCIANO, William, c/o IMCOMER LTDA., Cali, Colombia; c/o INVERSIONES EL PENON S.A., Cali, Colombia; c/o ADMINISTRACION INMOBILIARIA BOLIVAR S.A., Cali, Colombia; c/o INVERSIONES BETANIA LTDA., Cali, Colombia; c/o CONCRETOS CALI S.A., Cali, Colombia; c/o CONSTRUCTORA DIMISA LTDA., Cali, Colombia; Calle 3C No. 72-64 10, Cali, Colombia; c/o INVERSIONES GEMINIS S.A., Cali, Colombia; DOB 07 Feb 1964; Cedula No. 16694719 (Colombia) (individual) [SDNT].

60. RAMOS RAYO, Heriberto, c/o INVERSIONES VILLA PAZ S.A., Cali, Colombia; DOB 19 Aug 1946; Cedula No. 6186403 (Colombia) (individual) [SDNT].

61. REYES MURCIA, Edgar, c/o CONSTRUVIDA S.A., Cali, Colombia; DOB 03 Feb 1947; Cedula No. 17181081 (Colombia) (individual) [SDNT].

62. RIZO MORENO, Jorge Luis, Transversal 11, Diagonal 23-30 apt. 304A, Cali, Colombia; DOB 17 May 1960; Cedula No. 16646582 (Colombia) (individual) [SDNT] (Linked To: SERVIAUTOS UNO A 1A LIMITADA; Linked To: INVERSIONES EL PENON S.A.; Linked To: CONSTRUVIDA S.A.; Linked To: IMPORTADORA Y COMERCIALIZADORA LTDA.; Linked To: CONSTRUCTORA DIMISA LTDA.; Linked To: PROCESADORA DE POLLOS SUPERIOR S.A.; Linked To: CRIADERO DE POLLOS EL ROSAL S.A.).

63. ROZO CLAVIJO, Miguel Antonio, c/o CONSTRUCTORA ALTOS DEL RETIRO LTDA., Bogota, Colombia; DOB 18 Aug 1943; Cedula No. 17093270 (Colombia) (individual) [SDNT].

64. SAAVEDRA RESTREPO, Jesus Maria, c/o CONCRETOS CALI S.A., Cali, Colombia; Calle 5 No. 46-83 Local 119, Cali, Colombia; c/o INMOBILIARIA U.M.V. S.A., Cali, Colombia; c/o CONSTRUCTORA DIMISA LTDA., Cali, Colombia; DOB 10 Jul 1958; Cedula No. 16603482 (Colombia) (individual) [SDNT].

65. SALCEDO RAMIREZ, Nhora Clemencia, c/o ADMINISTRACION INMOBILIARIA BOLIVAR S.A., Cali, Colombia; c/o INMOBILIARIA BOLIVAR LTDA., Cali, Colombia; DOB 20 Nov 1956; Cedula No. 31273613 (Colombia) (individual) [SDNT].

66. SEPULVEDA SEPULVEDA, Manuel Salvador, c/o INVHERESA S.A., Cali, Colombia; c/o INMOBILIARIA U.M.V. S.A., Cali, Colombia; c/o ALKALA ASOCIADOS S.A., Cali, Colombia; DOB 02 Feb 1956; Cedula No. 16855038 (Colombia) (individual) [SDNT].

67. SERNA, Maria Norby (a.k.a. SERNA DE PEREZ, Maria Norbi), c/o INVHERESA S.A., Cali, Colombia; c/o ALKALA ASOCIADOS S.A., Cali, Colombia; Carrera 30A No. 67-45, Palmira, Colombia; DOB 14 Jul 1945; Cedula No. 29475049 (Colombia) (individual) [SDNT].

68. URIBE GONZALEZ, Jose Abelardo, c/o CONSULTORIA EMPRESARIAL ESPECIALIZADA LTDA., Cali, Colombia; c/o SERVICIOS INMOBILIARIAS LTDA., Cali, Colombia; c/o INMOBILIARIA U.M.V. S.A., Cali, Colombia; c/o COMERCIALIZADORA INTERNACIONAL VALLE DE ORO S.A., Cali, Colombia; Cedula No. 16647906 (Colombia) (individual) [SDNT].

69. VALDIVIESO FONTAL, Diego, c/o VALLADARES LTDA., Cali, Colombia; DOB 13 Dec 1959; Cedula No. 16662362 (Colombia) (individual) [SDNT].

70. VALENCIA, Reynel (a.k.a. VALENCIA, Reinel), c/o GANADERIAS DEL VALLE S.A., Cali, Colombia; c/o INMOBILIARIA U.M.V. S.A., Cali, Colombia; c/o COMERCIALIZADORA INTERNACIONAL VALLE DE ORO S.A., Cali, Colombia; DOB 19 Nov 1954; Cedula No. 16258610 (Colombia) (individual) [SDNT].

71. VALENCIA ARIAS, Jhon Gavy (a.k.a. VALENCIA ARIAS, John Gaby), Carrera 76 No. 6-200 102, Cali, Colombia; Avenida 7N No. 17A-46, Cali, Colombia; c/o INVERSIONES EL PENON S.A., Cali, Colombia; c/o INVERSIONES BETANIA LTDA., Cali, Colombia; Cedula No. 16741491 (Colombia) (individual) [SDNT].

72. VALENCIA ARIAS, Luis Fernando, c/o INVERSIONES EL PENON S.A., Cali, Colombia; c/o INVERSIONES BETANIA LTDA., Cali, Colombia; c/o INVERSIONES GEMINIS S.A., Cali, Colombia; DOB 24 Sep 1962; Cedula No. 71626881 (Colombia) (individual) [SDNT].

73. VALENCIA DE JARAMILLO, Maria Diocelina, c/o AGROPECUARIA LA ROBLEDA S.A., Cali, Colombia; DOB 08 May 1959; Cedula No. 31162155 (Colombia) (individual) [SDNT].

74. VALENCIA FRANCO, Manuel, c/o GANADERIAS DEL VALLE S.A., Cali, Colombia (individual) [SDNT].

75. VARGAS LOPEZ, Gustavo Adolfo, c/o INDUSTRIA MADERERA ARCA LTDA., Cali, Colombia; c/o AGROPECUARIA LA ROBLEDA S.A., Cali, Colombia; c/o INVERSIONES VILLA PAZ S.A., Cali, Colombia; c/o COLOMBIANA DE CERDOS LTDA., Pereira, Colombia; c/o MATADERO METROPOLITANO LTDA., Pereira, Colombia; DOB 03 Nov 1955; Cedula No. 6457925 (Colombia) (individual) [SDNT].

76. VILLEGAS ARIAS, Maria Deisy (a.k.a. VILLEGAS ARIAS, Maria Deicy), c/o CONCRETOS CALI S.A., Cali, Colombia; c/o CONSTRUEXITO S.A., Cali, Colombia; c/o INDUSTRIA MADERERA ARCA LTDA, Cali, Colombia; Calle 66 No. 1A-6 51, Cali, Colombia; c/o GANADERIAS DEL VALLE S.A., Cali, Colombia; c/o SOCOVALLE LTDA., Cali, Colombia; DOB 16 Jul 1961; Cedula No. 31200871 (Colombia) (individual) [SDNT].

77. ZAMBRANO CERON, Maria Concepcion, c/o AGROPECUARIA LA ROBLEDA S.A., Cali, Colombia; DOB 04 Aug 1928; Cedula No. 29488292 (Colombia) (individual) [SDNT].

78. ZAMORA, Jose Hernan, c/o GANADERIAS DEL VALLE S.A., Cali, Colombia (individual) [SDNT].

79. MARIN TOBON, Bernardo Antonio, Calle 14 No. 18-62, La Union, Valle, Colombia; Calle 14 No. 18-64, La Union, Valle, Colombia; Carrera 16 No. 13-29 Piso 2, La Union, Valle, Colombia; Carrera 16 No. 13-31, La Union, Valle, Colombia; c/o ALMACAES S.A., Bogota, Colombia; c/o GRAJALES S.A., La Union, Valle, Colombia; c/o HOTEL LOS VINEDOS, La Union, Valle, Colombia; c/o ILOVIN S.A., Bogota, Colombia; c/o TRANSPORTES DEL ESPIRITU SANTO S.A., La Union, Valle, Colombia; c/o DOXA S.A., La Union, Valle, Colombia; c/o FUNDACION CENTRO DE INVESTIGACION HORTIFRUTICOLA DE COLOMBIA, La Union, Valle, Colombia; c/o MANUFACTURAS REAL S.A., Bogota, Colombia; DOB 18 Jan 1954; POB La Union, Valle, Colombia; Cedula No. 6355508 (Colombia) (individual) [SDNT].

80. TOVAR ZULETA, Jorge Eduardo; DOB 09 Oct 1964; POB Cali, Colombia; Cedula No. 79324921 (Colombia) (individual) [SDNTK] (Linked To: INDUITEX LTDA.; Linked To: SBT S.A.).

81. VALENCIA COSSIO, Guillermo Leon; DOB 24 Jun 1958; Cedula No. 70115707 (Colombia) (individual) [SDNTK].

82. VILLANUEVA MADRID, Mario Ernesto; DOB 02 Jul 1949; POB Quintana Roo, Mexico (individual) [SDNTK].

83. NINO CARDENAS, Julio Cesar, c/o MI CARRO E.U., Medellin, Colombia; POB Colombia; nationality Colombia; citizen Colombia; Cedula No. 70513214 (Colombia) (individual) [SDNTK].

84. SALAZAR CARDENAS, Carlos Mario, c/o MI CARRO E.U., Medellin, Colombia; POB Colombia; nationality Colombia; citizen Colombia; Cedula No. 13485023 (Colombia) (individual) [SDNTK].

85. GARCIA ROJAS, Javier (a.k.a. “EL PARIENTE”; a.k.a. “MARACUYA”), Medellin, Colombia; DOB 27 Oct 1960; POB Florencia, Caqueta, Colombia; citizen Colombia; Gender Male; Cedula No. 12971151 (Colombia) (individual) [SDNTK] (Linked To: AGROCONSTRUCCIONES LAS PALMERAS S.A.S.; Linked To: MMAG AGRICULTURA GLOBAL S.A.S.).

86. GARCIA ROJAS, Ruth, Colombia; DOB 20 Dec 1967; POB Puerto Asis, Putumayo, Colombia; citizen Colombia; Gender Female; Cedula No. 31971911 (Colombia); Tarjeta Profesional 186785 (Abogado) (Colombia) (individual) [SDNTK] (Linked To: INVERSORA PINZON Y GARCIA S. EN C.S. EN LIQUIDACION).

87. BUENDIA CUELLAR, Luis Alfonso, c/o GALAPAGOS S.A., Cali, Colombia; Cedula No. 6044411 (Colombia) (individual) [SDNT].

88. GARAVITO, Doris Amelia, c/o GALAPAGOS S.A., Cali, Colombia; Cedula No. 31233463 (Colombia) (individual) [SDNT].

89. GARCIA PIZARRO, Gentil Velez, Cali, Colombia (individual) [SDNT] (Linked To: GALAPAGOS S.A).

90. HERRAN SAAVEDRA, Victor Hugo, c/o GALAPAGOS S.A., Cali, Colombia; Cedula No. 16447166 (Colombia) (individual) [SDNT].

91. MORENO DAZA, Ricardo Alfredo, Carrera 38D No. 4B-57, Cali, Colombia; c/o GALAPAGOS S.A., Cali, Colombia; c/o TAURA S.A., Cali, Colombia; Cedula No. 16631400 (Colombia) (individual) [SDNT].

92. RAMIREZ ESCUDERO, Pedro Emilio, Calle 6A No. 48-36, Cali, Colombia; c/o GALAPAGOS S.A., Cali, Colombia; Cedula No. 16820602 (Colombia) (individual) [SDNT].

93. GILMAN FRANCO, Maria, c/o TAURA S.A., Cali, Colombia; Cedula No. 22103099 (Colombia) (individual) [SDNT].

94. GONGORA ALARCON, Hernando, c/o TAURA S.A., Cali, Colombia; Cedula No. 19298944 (Colombia) (individual) [SDNT].

95. HERNANDEZ, Oscar, Mz. 21 Casa 5 Barrio San Fernando, Pereira, Colombia; c/o TAURA S.A., Cali, Colombia; Cedula No. 6157940 (Colombia) (individual) [SDNT].

96. VILLADA ZUNIGA, Elmer, Calle 15 No. 20-10, Cali, Colombia; c/o TAURA S.A., Cali, Colombia; Cedula No. 14988902 (Colombia) (individual) [SDNT].

97. CAVIEDES CRUZ, Leonardo, Calle 21 Norte No. 3N-84, Cali, Colombia; c/o CAVIEDES DILEO Y CIA S.C.S., Cali, Colombia; DOB 23 Nov 1952; Cedula No. 16593470 (Colombia); Passport AB151486 (Colombia); alt. Passport AC444270 (Colombia); alt. Passport OC444290 (Colombia) (individual) [SDNT].

98. SANTACRUZ LONDONO, Jose (a.k.a. “CHEPE”; a.k.a. “DON CHEPE”; a.k.a. “EL GORDO CHEPE”), Cali, Colombia; DOB 01 Oct 1943; Passport AB149814 (Colombia) (individual) [SDNT].

99. GALVIS MARIN, Samuel Gustavo (a.k.a. GALVEZ, Samuel), c/o PALMERAS SANTA BARBARA, Calamar, Guaviare, Colombia; Calle 39 No. 19A-33, Villavicencio, Colombia; Cedula No. 6001464 (Colombia) (individual) [SDNTK].

100. USUGA DAVID, Juan de Dios, Colombia; POB Monteria, Cordoba; nationality Colombia; citizen Colombia; Cedula No. 71938240 (Colombia) (individual) [SDNTK].

101. VARGAS GUTIERREZ, Roberto, Colombia; POB Colombia; nationality Colombia; citizen Colombia; Cedula No. 71981878 (Colombia) (individual) [SDNTK].

Entities

1. IMPORTADORA MARENOL LIMITADA, Carrera 50 No. 39-71, Medellin, Colombia; NIT # 800104353-4 (Colombia) [SDNTK].

2. ROBIREPUESTOS, Carrera 50 No. 41-41 Local 112, Medellin, Colombia; Matricula Mercantil No 21-438991-02 (Medellin) [SDNTK].

3. ADMINISTRACION INMOBILIARIA BOLIVAR S.A., Calle 17N No. 6N-28, Cali, Colombia; Avenida 2CN No. 24N-92, Cali, Colombia; NIT # 800149060-5 (Colombia) [SDNT].

4. AGROPECUARIA BETANIA LTDA., Calle 70N No. 14-31, Cali, Colombia; Carrera 61 No. 11-58, Cali, Colombia [SDNT].

5. AGROPECUARIA LA ROBLEDA S.A., Avenida 2DN No. 24N-76, Cali, Colombia; Carrera 61 No. 11-58, Cali, Colombia; NIT # 800160353-2 (Colombia) [SDNT].

6. AGROPECUARIA Y REFORESTADORA HERREBE LTDA., Avenida 2N No. 7N-55 of. 501, Cali, Colombia [SDNT].

7. ALKALA ASOCIADOS S.A. (f.k.a. INVHERESA S.A.), Calle 1A No. 62A-130, Cali, Colombia; Calle 1A No. 62A-120, Cali, Colombia; Avenida 2N No. 7N-55 of. 501, Cali, Colombia; Calle 70N No. 14-31, Cali, Colombia; NIT # 800108121-0 (Colombia) [SDNT].

8. COMERCIAL DE NEGOCIOS CLARIDAD Y CIA., Avenida Caracas No. 59-77 of. 201A, 401B y 405B, Bogota, Colombia; NIT # 800080719-0 (Colombia) [SDNT].

9. COMERCIALIZADORA EXPERTA Y CIA. S. EN C., Avenida Caracas No. 59-77 of. 201A, 401B, 405B y 407B, Bogota, Colombia; NIT # 800075687-3 (Colombia) [SDNT].

10. COMPANIA ADMINISTRADORA DE VIVIENDA S.A. (f.k.a. INVERSIONES GEMINIS S.A.), Carrera 40 No. 6-24 of. 402B, Cali, Colombia; Carrera 41 No. 6-15/35, Cali, Colombia; NIT # 800032419-1 (Colombia) [SDNT].

11. CONCRETOS CALI S.A., Calle 7 No. 82-65, Cali, Colombia [SDNT].

12. CONSTRUCTORA ALTOS DEL RETIRO LTDA., Carrera 7 No. 72-28 of. 301, Bogota, Colombia; Carrera 4 No. 86-88, Bogota, Colombia; Transversal 3 No. 85-10 apt. 401 Interior 1, Bogota, Colombia; NIT # 890329139-8 (Colombia) [SDNT].

13. CONSTRUCTORA DIMISA LTDA., Calle 70N No. 14-31, Cali, Colombia [SDNT].

14. CONSTRUCTORA EL NOGAL S.A. (f.k.a. CONE S.A.; f.k.a. CONSTRUEXITO S.A.), Avenida 2N No. 7N-55 of. 501, Cali, Colombia; Calle 2A No. 65A-110, apto. 501 B3, Cali, Colombia; NIT # 800051378-9 (Colombia) [SDNT].

15. CONSTRUVIDA S.A., Avenida 2N No. 7N-55 of. 521, Cali, Colombia; Carrera 68 No. 13B-61 of. 104B, Cali, Colombia; Calle 70N No. 14-31, Cali, Colombia; NIT # 800108122-8 (Colombia) [SDNT].

16. CONSULTORIA EMPRESARIAL ESPECIALIZADA LTDA., Avenida 2N No. 7N-55 of. 421, Cali, Colombia; NIT # 800109042-1 (Colombia) [SDNT].

17. CRIADERO DE POLLOS EL ROSAL S.A. (f.k.a. INDUSTRIA AVICOLA PALMASECA S.A.), Carretera Central via Aeropuerto Palmaseca, Colombia; Carrera 61 No. 11-58, Cali, Colombia; NIT # 800146749-7 (Colombia) [SDNT].

18. GANADERIAS DEL VALLE S.A., Avenida 2FN No. 24N-92, Cali, Colombia; Carrera 83 No. 6-50, Cali, Colombia; Carrera 61 No. 11-58, Cali, Colombia; NIT # 800119808-9 (Colombia) [SDNT].

19. IMPORTADORA Y COMERCIALIZADORA LTDA. (a.k.a. IMCOMER), Avenida 6N y Avenida 4 No. 13N-50 of. 1201, Cali, Colombia; NIT # 800152058-0 (Colombia) [SDNT].

20. INDUSTRIA MADERERA ARCA LTDA., Calle 11 No. 32-47 Bodega 41 Arroyohondo, Cali, Colombia; Calle 32 No. 11-41 Bodega 4 Arroyohondo, Cali, Colombia; NIT # 800122866-7 (Colombia) [SDNT].

21. INMOBILIARIA BOLIVAR LTDA., Calle 17N No. 6N-28, Cali, Colombia; Calle 24N No. 6N-21, Cali, Colombia; NIT # 890330573-3 (Colombia) [SDNT].

22. INMOBILIARIA GALES LTDA., Avenida Caracas No. 59-77 of. 201A, 401B y 405B, Bogota, Colombia; NIT # 800061287-1 (Colombia) [SDNT].

23. INMOBILIARIA U.M.V. S.A., Carrera 83 No. 6-50, Edificio Alqueria, Torre C, of. 302, Cali, Colombia [SDNT].

24. INVERSIONES AGRICOLAS AVICOLAS Y GANADERAS LA CARMELITA LTDA., Carrera 61 Nos. 11-58 y 11-62, Cali, Colombia; NIT # 800052898-1 (Colombia) [SDNT].

25. INVERSIONES ARIO LTDA., Carrera 4 No. 12-41 of. 608 y 701, Cali, Colombia; NIT # 890328888-1 (Colombia) [SDNT].

26. INVERSIONES CULZAT GUEVARA Y CIA. S.C.S., Avenida 4A Oeste No. 5-107 apt. 401, Cali, Colombia; Avenida 7N No. 23N-39, Cali, Colombia; Avenida 4A Oeste No. 5-187 apt. 401, Cali, Colombia; NIT # 860065523-1 (Colombia) [SDNT].

27. INVERSIONES EL GRAN CRISOL LTDA. (f.k.a. W. HERRERA Y CIA. S. EN C.), Avenida 2N 7N-55 of. 501, Cali, Colombia; Carrera 24D Oeste No. 6-237, Cali, Colombia; NIT # 800001330-2 (Colombia) [SDNT].

28. INVERSIONES EL PENON S.A., Avenida 2N, Cali, Colombia [SDNT].

29. INVERSIONES HERREBE LTDA., Avenida 2N No. 7N-55 of. 501, Cali, Colombia; Carrera 25 No. 4-65, Cali, Colombia [SDNT].

30. INVERSIONES VILLA PAZ S.A., Avenida 2DN No. 24N-76, Cali, Colombia; Avenida 2CN No. 24N-92, Cali, Colombia; Carrera 61 No. 11-58, Cali, Colombia; Calle 70N No. 14-31, Cali, Colombia; NIT # 800091083-2 (Colombia) [SDNT].

31. INVERSIONES Y CONSTRUCCIONES VALLE S.A. (a.k.a. INCOVALLE), Avenida 2N No. 7N-55 of. 501, Cali, Colombia [SDNT].

32. MANAURE S.A. (f.k.a. AGROPECUARIA LA ROBLEDA S.A.), Avenida 2D Norte No. 24N-76, Cali, Colombia; Carrera 61 No. 11-58, Cali, Colombia; NIT # 800160353-2 (Colombia) [SDNT].

33. MERCAVICOLA LTDA., Calle 47AN, Cali, Colombia; Calle 34 No. 5A-25, Cali, Colombia; NIT # 800086338-5 (Colombia) [SDNT].

34. PROCESADORA DE POLLOS SUPERIOR S.A. (a.k.a. COMERCIALIZADORA INTERNACIONAL VALLE DE ORO S.A.), Avenida 2N No. 7N-55 of. 521, Cali, Colombia; Carrera 3 No. 12-40, Cali, Colombia; A.A. 1689, Cali, Colombia; Km 17 Recta Cali-Palmira, Palmira, Colombia; NIT # 800074991-3 (Colombia) [SDNT].

35. PROHUEVO DE COLOMBIA LTDA., Calle 34 No. 5A-25, Cali, Colombia; 1 Km Antes de Cavasa Palmira-Cali, Colombia; Granja Pio Pio Carretera Cali-Candelaria Km 12, Cali, Colombia; NIT # 800089683-5 (Colombia) [SDNT].

36. SAN MATEO S.A. (f.k.a. INVERSIONES BETANIA LTDA.; f.k.a. INVERSIONES BETANIA S.A.), Avenida 2N No. 7N-55 of. 501, Cali, Colombia; Carrera 53 No. 13-55 apt. 102B, Cali, Colombia; Carrera 3 No. 12-40, Cali, Colombia; NIT # 890330910-2 (Colombia) [SDNT].

37. SOCIEDAD CONSTRUCTORA Y ADMINISTRADORA DEL VALLE LTDA. (a.k.a. SOCOVALLE LTDA.), Avenida 2N No. 7N-55 of. 601-602, Cali, Colombia [SDNT].

38. VALLADARES LTDA. (f.k.a. AGROPECUARIA BETANIA LTDA.), Calle 70N No. 14-31, Cali, Colombia; Carrera 61 No. 11-58, Cali, Colombia; NIT # 890329123-0 (Colombia) [SDNT].

39. VALLE COMUNICACIONES LTDA. (a.k.a. VALLECOM), Carrera 60 No. 2A-107, Cali, Colombia [SDNT].

40. VALLE DE ORO S.A., Pollo Tanrico Km 17 Recta Cali-Palmira, Palmira, Colombia; Cali, Colombia; NIT # 890331067-2 (Colombia) [SDNT].

41. VIAJES MERCURIO LTDA., Carrera 3 No. 10-02 Local 113, Cali, Colombia [SDNT].

42. MI CARRO E.U., Calle 33 No. 75C-40, Medellin, Colombia; NIT # 9000750838 (Colombia) [SDNTK].

43. AGROCONSTRUCCIONES LAS PALMERAS S.A.S., Carrera 43 A 1 Sur 220 Interior 706, Medellin, Antioquia, Colombia; NIT # 900609147-4 (Colombia) [SDNTK].

44. MMAG AGRICULTURA GLOBAL S.A.S. (f.k.a. JAVIER GARCIA ROJAS E.U.; a.k.a. MAG AGRICULTURA GLOBAL S.A.S.), Carrera 43 A 1 Sur 220 Oficina 706, Medellin, Antioquia, Colombia; NIT # 813003117-6 (Colombia) [SDNTK].

45. INVERSORA PINZON Y GARCIA S. EN C.S. EN LIQUIDACION (a.k.a. INVERSORA PINZON Y GARCIA S. EN C.S.), Cl. 15A Nro. 106 13 13 Casa, Cali, Valle, Colombia; Cl. 15A Nro. 106 13 13C, Cali, Valle, Colombia; NIT # 805024080-3 (Colombia) [SDNTK].

46. TAURA S.A., Calle 13 No. 68-06, Of. 204, Cali, Colombia; Calle 13 No. 68-26, Of. 214, 313 & 314, Cali, Colombia; Carrera 115 No. 16B-121, Cali, Colombia; NIT # 800183713-1 (Colombia) [SDNT].

47. PALMERAS SANTA BARBARA, Entrada Casco Urbano Calamar, Calamar, Guaviare, Colombia; Matricula Mercantil No 109214 (Colombia) [SDNTK].

Dated: December 30, 2021.
Gregory T. Gatjanis,
Associate Director, Office of Global Targeting, Office of Foreign Assets Control, U.S. Department of the Treasury.

[FR Doc. 2021-28589 Filed 1-4-22; 8:45 am]

BILLING CODE 4810-AL-P